DEPARTMENT OF DEFENSE

Office of the Secretary

[Transmittal No. 23-21]

Arms Sales Notification

AGENCY: Defense Security Cooperation Agency, Department of Defense (DoD).

ACTION: Arms sales notice.

SUMMARY: The DoD is publishing the unclassified text of an arms sales notification.

FOR FURTHER INFORMATION CONTACT: Pamela Young at (703) 953-6092, pamela.a.young14.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 23-21, Policy Justification, and Sensitivity of Technology.

Dated: October 15, 2024.
Aaron T. Siegel,
Alternate OSD Federal Register Liaison Officer, Department of Defense.

Transmittal No. 23-21

Notice of Proposed Issuance of Letter of Offer Pursuant to Section 36(b)(1) of the Arms Export Control Act, as amended

(i) Prospective Purchaser: Government of Romania

(ii) Total Estimated Value:

Major Defense Equipment * | $ 15 million
Other | $487 million
Total | $502 million

Funding Source: National Funds

(iii) Description and Quantity or Quantities of Articles or Services under Consideration for Purchase: The Government of Romania has requested to buy equipment and services to modernize thirty-two (32) F-16 Mid-Life Update Block 10/15 aircraft to be procured through third-party transfer from Norway. The equipment includes:

Major Defense Equipment (MDE):

One hundred twenty-eight (128) LAU-129 Guided Missile Launchers

Non-MDE:

Also included are KY-58M and KIV-78 cryptographic devices; AN/PYQ-10C Simple Key Loaders; Joint Mission Planning Systems (JMPS); Night Vision Device (NVD) aviator vision systems and spare Image Intensifier Tubes; Electronic Warfare database support; Classified/Unclassified Computer Program Identification Number Systems (CPIN) and CPIN Electronic Combat International Security Assistance Program (ECISAP) equipment and support; flight test services; integration and test support and equipment; aircraft and munitions support and support equipment; pilot life support equipment; secure communications equipment, precision navigation, and cryptographic devices; Classified/Unclassified software delivery and support; spare parts, consumables and accessories, and repair and return support; Precision Measurement Equipment Laboratory (PMEL) equipment and support; Aircraft Structural Integrity Program (ASIP) support; maintenance and maintenance support; studies/surveys; Classified/Unclassified publications and technical documentation; U.S. Government and contractor engineering, technical and logistics support services, studies and surveys; and other related elements of logistics and program support.

(iv) Military Department: Air Force (RO-D-QAP)

(v) Prior Related Cases, if any: RO-D-QAN, RO-D-QAH

(vi) Sales Commission, Fee, etc., Paid, Offered, or Agreed to be Paid: None known at this time

(vii) Sensitivity of Technology Contained in the Defense Article or Defense Services Proposed to be Sold: See Attached Annex

(viii) Date Report Delivered to Congress: June 30, 2023

* As defined in Section 47(6) of the Arms Export Control Act.

POLICY JUSTIFICATION

Romania—F-16 Aircraft Modernization

The Government of Romania has requested to buy equipment and services to modernize thirty-two (32) F-16 Mid-Life Update Block 10/15 aircraft to be procured through third-party transfer from Norway. The equipment includes one hundred twenty-eight (128) LAU-129 Guided Missile Launchers. Also included are KY-58M and KIV-78 cryptographic devices; AN/PYQ-10C Simple Key Loaders; Joint Mission Planning Systems; Night Vision Device (NVD) aviator vision systems and spare Image Intensifier Tubes; Electronic Warfare database support; Classified/Unclassified Computer Program Identification Number Systems (CPIN) and CPIN Electronic Combat International Security Assistance Program (ECISAP) equipment and support; flight test services; integration and test support and equipment; aircraft and munitions support and support equipment; pilot life support equipment; secure communications equipment, precision navigation, and cryptographic devices; Classified/Unclassified software delivery and support; spare parts, consumables and accessories, and repair and return support; Precision Measurement Equipment Laboratory (PMEL) equipment and support; Aircraft Structural Integrity Program (ASIP) support; maintenance and maintenance support; studies/surveys; Classified/Unclassified publications and technical documentation; U.S. Government and contractor engineering, technical and logistics support services, studies and surveys; and other related elements of logistics and program support. The estimated total cost is $502 million.

This proposed sale will support the foreign policy goals and national security objectives of the United States by improving the security of a NATO ally that is a force for political stability and economic progress in Europe.

The proposed sale will improve Romania's capability to meet current and future threats by bolstering its operational readiness while enhancing air and defense capabilities with a modernized fleet. Romania has F-16s in its inventory and will have no difficulty absorbing these aircraft and equipment into its armed forces.

The proposed sale of this equipment and support will not alter the basic military balance in the region.

The principal contractor will be Lockheed Martin, Fort Worth, TX. There are no known offset agreements proposed in connection with this potential sale.

Implementation of this proposed sale will not require the assignment of any additional U.S. Government or contractor representatives to Romania.

There will be no adverse impact on U.S. defense readiness as a result of this proposed sale.

Transmittal No. 23-21

Notice of Proposed Issuance of Letter of Offer Pursuant to Section 36(b)(1) of the Arms Export Control Act

Annex

Item No. vii

(vii) Sensitivity of Technology:

1. The F-16 Block 10/15 Mid Life Update (MLU) aircraft is an advanced, single engine multi-role fighter aircraft. The configuration and capability modifications for the F-16 MLU aircraft include an avionics package for the Romania specific M6.5.2 Core Operational Flight Plan (OFP) Baseline, Communications and Identification for M6.5.2, navigation aids, advanced cockpit, mission planning, electronic warfare and integrated logistics supportability.

2. The LAU-129 Guided Missile Launcher provides mechanical and electrical interface between an AIM-9 Sidewinder or AIM-120 AMRAAM missile and the aircraft.

3. The KY-58 is a secure voice module primarily used to encrypt radio communication to and from military aircraft and other tactical vehicles.

4. The KIV-78 is a cryptographic applique for IFF. It can be loaded with Mode 5 classified elements.

5. The AN/PYQ-10 Simple Key Loader is a handheld device used for securely receiving, storing, and transferring data between compatible cryptographic and communications equipment.

6. The Joint Mission Planning System (JMPS) is a multi-platform, PC-based mission planning system.

7. The Hands-On Black-Out (HOBO) Night Vision Imaging System (NVIS) is a Night Vision Device designed for use with a F-16 NVIS-compatible cockpit.

8. The Electronic Warfare Integrated Reprogramming Database (EWIRDB) is used by USG engineers in the reprogramming and creation of shareable Mission Data Files for the AN/ALQ-131 electronic countermeasures pod on the F-16 aircraft. The source product is not releasable to the customer.

9. The highest level of classification of defense articles, components, and services included in this potential sale is SECRET.

10. If a technologically advanced adversary were to obtain knowledge of the specific hardware and software elements, the information could be used to develop countermeasures that might reduce weapon system effectiveness or be used in the development of a system with similar or advanced capabilities.

11. A determination has been made that Romania can provide substantially the same degree of protection for the sensitive technology being released as the U.S. Government. This sale is necessary in furtherance of the U.S. foreign policy and national security objectives outlined in the Policy Justification.

12. All defense articles and services listed in this transmittal have been authorized for release and export to the Government of Romania.

[FR Doc. 2024-24126 Filed 10-17-24; 8:45 am]

BILLING CODE 6001-FR-P